FEDERAL MARITIME COMMISSION

Ocean Transportation Intermediary License Reissuances

The Commission gives notice that the following Ocean Transportation Intermediary license has been reissued pursuant to section 19 of the Shipping Act of 1984 (46 U.S.C. 40101) effective on the date shown.

License No.: 017269N.

Name: Fastmark Corporation.

Address: 7206 NW 84th Avenue, Medley, FL 33166.

Date Reissued: January 22, 2013.

Vern W. Hill,
Director, Bureau of Certification and Licensing.

[FR Doc. 2013-05314 Filed 3-6-13; 8:45 am]

BILLING CODE 6730-01-P